DEPARTMENT OF TRANSPORTATION

Federal Railroad Administration

Guidance on Submitting Requests for Waivers, Block Signal Applications, and Other Approval Requests to the Federal Railroad Administration

AGENCY: Federal Railroad Administration (FRA), Department of Transportation (DOT).

ACTION: Notice of availability.

SUMMARY: FRA is issuing this notice to advise all interested stakeholders that it has issued and made available on its website a guidance document addressing requirements related to the submission of requests for waivers, applications to modify or discontinue a railroad signal system, and other special approval requests to FRA. The guidance document is intended to provide information regarding existing requirements and best practices when submitting requests for waivers, block signal applications, and other special approval requests to FRA.

FOR FURTHER INFORMATION CONTACT: Lucinda Henriksen, Senior Advisor, Office of Railroad Safety, FRA, telephone: 202-657-2842, email: lucinda.henriksen@dot.gov; or Veronica Chittim, Senior Attorney, Office of the Chief Counsel, telephone: 202-480-3410, email: veronica.chittim@dot.gov.

SUPPLEMENTARY INFORMATION: The guidance document titled Guidance on Submitting Requests for Waivers, Block Signal Applications, and Other Approval Requests to FRA is available on FRA's website at https://railroads.dot.gov/elibrary/guidance-submitting-requests-waivers-block-signal-applications-and-other-approval-requests. The document is intended to provide information regarding existing requirements and best practices when submitting to FRA requests for waivers, block signal applications, and other special approvals. The guidance document replaces previous guidance on this subject, including the document titled “Waivers, Block Signal Applications, and Special Approvals” last updated on September 28, 2012. Except when referencing laws, regulations, or orders, the contents of the guidance document do not have the force and effect of law and are not meant to bind the public in any way.

Issued in Washington, DC.
John Karl Alexy,
Associate Administrator for Railroad Safety, Chief Safety Officer.

[FR Doc. 2023-00238 Filed 1-9-23; 8:45 am]

BILLING CODE 4910-06-P